DEPARTMENT OF HOUSING AND URBAN DEVELOPMENT

[Docket No. FR-5831-N-22]

30-Day Notice of Proposed Information Collection: Family Self Sufficiency Program Demonstration

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: May 28, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email at Colette Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on December 29, 2014 at 79 FR 78100.

A. Overview of Information Collection

Title of Information Collection: Family Self-Sufficiency Program Demonstration.

OMB Approval Number: 2528-0296.

Type of Request: Revision of a currently approved collection.

Form Numbers: N/A.

Description of the need for the information and proposed use: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

The Department is conducting this study under contract with MDRC and its subcontractors (Branch Associates and M. Davis and Company, Inc.). The project is an evaluation of the Family Self-Sufficiency Program operated at Public Housing Agencies (PHAs) across the U.S. The study will use random-assignment methods to evaluate the effectiveness of the program. FSS has operated since 1992 and serves voucher holders and residents of public housing. The FSS model is essentially case management plus an escrow account. FSS case managers create a plan with families to achieve goals and connect with services that will enhance their employment opportunities. Families accrue money in their escrow accounts as they increase their earnings. To date, HUD has funded two other studies of the FSS program, but neither can tell us how well families would have done in the absence of the program. A random assignment model is needed because participant self-selection into FSS limits the ability to know whether program features rather than the characteristics of the participating families caused tenant income gains. Random assignment will limit the extent to which selection bias is driving observed results.

This demonstration will document the progress of a group of FSS participants from initial enrollment to program completion (or exit). The intent is to gain a deeper understanding of the program and illustrate strategies that assist participants to obtain greater economic independence. While the main objective of FSS is stable, suitable employment, there are many interim outcomes of interest, which include: getting a first job; getting a higher paying job; self-employment/small business ownership; no longer needing benefits provided under one or more welfare programs; obtaining additional education, whether in the form of a high school diploma, higher education degree, or vocational training; buying a home; buying a car; setting up savings accounts; or accomplishing similar goals that lead to economic independence.

Data collection referenced in this notice focuses on program participation and data will be collected for FSS program participants only.

Respondents: 18 PHAs (approximately 1 staff per PHA) 1,785 Study Participants.

Estimation of the total number of hours needed to prepare the information collection including number of respondents, frequency of response, and hours of response:

Information collection | Number of respondents | Number responses per respondent | Average burden/ response (in hours) | Total burden hours
Management Information System (MIS) | 18 PHAs | 3.5 responses (assumes annual entry 2015, 2016, 2017, and part of 2018) | .83 hours (assume 50 minutes/year) | 3,809 burden (18 PHAs * 73 program participants¹ * 3.5 responses * .83 hours).
Tracking Survey | 1,785 Study Participants | 2 responses (semi-annual follow-ups) | .17 hours (assume 20 minutes/year) | 607 burden (18 PHAs * 1,785 program participants * 2 responses * .17 hours).
Total |  |  |  | 4,416 hours
¹ Total sample = 2,609, of which 1,306 is in the FSS group and 1,303 are in the Control group (excluding withdrawn or ineligible participants). There is an average of 73 FSS group members per PHA (1306 FSS group members/18 PHAs).

Estimated Number of Reponses: See table.

Frequency of Response: See table.

Average Hours per Response: See table.

Total Estimated Burden Hours: 4,416 Burden Hours.

Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 21, 2015.
Colette Pollard,
Department Reports Management Officer, Office of the Chief Information Officer.

[FR Doc. 2015-09769 Filed 4-27-15; 8:45 am]

BILLING CODE 4210-67-P